DEPARTMENT OF HEALTH AND HUMAN SERVICES

Centers for Medicare & Medicaid Services

Privacy Act of 1974; Computer Matching Program (Match No. 2001-07)

AGENCY: Department of Health and Human Services (HHS), Centers for Medicare & Medicaid Services (CMS).

ACTION: Notice of Computer Matching Program (CMP).

SUMMARY: In accordance with the requirements of the Privacy Act of 1974, as amended, this notice announces the establishment of a CMP that CMS plans to conduct with the Health Administration Center (HAP) of the Department of Veteran Affairs. We have provided background information about the proposed matching program in the “Supplementary Information” section below. Although the Privacy Act requires only that CMS provide an opportunity for interested persons to comment on the proposed matching program, CMS invites comments on all portions of this notice. See “Effective Dates” section below for comment period.

EFFECTIVE DATES: CMS filed a report of the CMP with the Chair of the House Committee on Government Reform and Oversight, the Chair of the Senate Committee on Governmental Affairs, and the Administrator, Office of Information and Regulatory Affairs, Office of Management and Budget (OMB) on March 28, 2002. To ensure that all parties have adequate time in which to comment, the modified or altered system of records, including routine uses, will become effective 40 days from the publication of the notice, or from the date it was submitted to OMB and the congress, whichever is later, unless CMS receives comments that require alterations to this notice.

ADDRESSES: The public should address comments to: Director, Division of Data Liaison and Distribution (DDLD), Office of Information Services (OIS), CMS, Mail-stop N2-04-27, 7500 Security Boulevard, Baltimore, Maryland 21244-1850. Comments received will be available for review at this location, by appointment, during regular business hours, Monday through Friday from 9 a.m.-3 p.m., eastern standard time.

FOR FURTHER INFORMATION CONTACT: Maribel Franey, Health Insurance Specialist, DDLD, OIS, CMS, Mail-stop N2-04-27, 7500 Security Boulevard, Baltimore, Maryland 21244-1850. The telephone number is 410-786-0757.

SUPPLEMENTARY INFORMATION:

I. Description of the Matching Program

A. General

The Computer Matching and Privacy Protection Act of 1988 (Public Law (Pub. L.) 100-503), amended the Privacy Act (5 U.S.C. 552a) by describing the manner in which computer matching involving Federal agencies could be performed and adding certain protections for individuals applying for and receiving Federal benefits.

Section 7201 of the Omnibus Budget Reconciliation Act of 1990 (Pub. L. 100-508) further amended the Privacy Act regarding protections for such individuals. The Privacy Act, as amended, regulates the use of computer matching by Federal agencies when records in a system of records (SOR) are matched with other Federal, state, or local government records. It requires Federal agencies involved in computer matching programs to:

1. Negotiate written agreements with the other agencies participating in the matching programs;

2. Obtain the Data Integrity Board approval of the match agreements;

1. Furnish detailed reports about matching programs to Congress and OMB;

2. Notify applicants and beneficiaries that the records are subject to matching; and,

3. Verify match findings before reducing, suspending, terminating, or denying an individual's benefits or payments.

B. CMS Computer Matches Subject to the Privacy Act

CMS has taken action to ensure that all CMPs that this Agency participates in comply with the requirements of the Privacy Act of 1974, as amended.

Dated: March 28, 2002.
Thomas A. Scully,
Administrator, Centers for Medicare & Medicaid Services.

Computer Match No. 2001-07

NAME:

Computer Matching Agreement between the Centers for Medicare & Medicaid Services (CMS) and the Health Administration Center (HAC) of the Department of Veterans Affairs for Verification of CHAMPVA Eligibility.

SECURITY CLASSIFICATION:

Level Three Privacy Act Sensitive.

PARTICIPATING AGENCIES:

The Centers for Medicare & Medicaid Services, and Health Administration Center (HAC) of the Department of Veterans Affairs.

AUTHORITY FOR CONDUCTING MATCHING PROGRAM:

This Computer Matching Program (CMP) is executed to comply with the Provisions of Public Laws (Pub. L.) 93-82, 94-581, 102-190, and 107-14 (codified at Title 38 United States Code (U.S.C.) § 1713) restrict CHAMPVA eligibility for benefits dependent upon a beneficiary's Medicare (Part A) and (Part B) status. This computer match will match CHAMPVA applicants and beneficiaries with Medicare Part A and B beneficiaries.

PURPOSE(S) OF THE MATCHING PROGRAM:

The purpose of this computer matching agreement is to establish the conditions, safeguards and procedures under which the CMS and HAC will conduct a computer-matching program to determine entitlement to CHAMPVA benefits. Under the terms of this matching agreement, HAC will provide to CMS a list of social security numbers (SSN) for all CHAMPVA eligible beneficiaries who may also be eligible for Medicare benefits. This information is maintained in HAC's SOR (SOR) entitled “Health Administration Center Civilian Health and Medical Program Records-VA.” CMS agrees to conduct a computer match of the SSNs of beneficiaries provided by HAC against the information found in CMS's Health Insurance Master Record (HIMR) SOR, HAC will receive the results of the computer match in order to determine a beneficiary's eligibility for care under CHAMPVA.

CATEGORIES OF RECORDS AND INDIVIDUALS COVERED BY THE MATCH:

Upon establishment of the CHAMPVA program under Pub.L. 93-82, CHAMPVA entitlement will be terminated when any individual becomes eligible for Medicare Part A (Hospital Insurance) on a non-premium basis. Pub. L. 94-581 provided for reinstatement of CHAMPVA as second payer for beneficiaries aged 65 and over whom exhausted a period of Medicare Part A (Hospital Insurance). These beneficiaries must also be enrolled in Medicare Part B (Medical Insurance) in order to retain their CHAMPVA entitlement. Pub. L. 102-190 extended CHAMPVA benefit to age 65 for any beneficiary eligible for Medicare Part A on the basis of disability/end stage renal disease (ESRD) only if that individual is also enrolled in Medicare Part B. Pub. L. 107-14 provided for extending benefit coverage for beneficiaries over the age of 65 years if the beneficiary is in receipt of Medicare Part A and Medicare Part B.

DESCRIPTION OF RECORDS TO BE USED IN THE MATCHING PROGRAM:

Systems of Records:

Records Maintained by HAC.

The information used in this matching program are maintained in the HAC system identified as 54VA17, entitled “Health Administration Center Civilian Health and Medical Program Records-VA,” last published at 65 FR 81572 (Dec. 26, 2000). SSNs of CHAMPVA beneficiaries will be released to CMS pursuant to the routine use number 23 as set forth in the system notice.

Records Maintained by CMS:

The matching program will be conducted with data maintained by CMS in the HIMR, System No. 09-70-0502, published at 55 FR 47394 (November 13, 1990) (for future references, the HIMR is being amended and will soon be re-named the Enrollment Database). Matched data will be released to HAC pursuant to the routine use number 11 as set forth in the system notice.

INCLUSIVE DATES OF THE MATCH:

The CMP shall become effective no sooner than 40 days after the report of the Matching Program is sent to OMB and Congress, or 30 days after publication in the Federal Register, which ever is later. The matching program will continue for 18 months from the effective date and may be extended for an additional 12 months thereafter, if certain conditions are met.

[FR Doc. 02-9205 Filed 4-15-02; 8:45 am]

BILLING CODE 4120-03-P